ENVIRONMENTAL PROTECTION AGENCY

[ER-FRL-6610-7]

Environmental Impact Statements; Notice of Availability

Responsible Agency: Office of Federal Activities. General Information (202) 564-7167 or www.epa.gov/oeca/ofa.

Weekly receipt of Environmental Impact Statements filed August 28, 2000 through September 1, 2000 pursuant to 40 CFR 1506.9.

EIS No. 000301, DRAFT EIS, BLM, CA, Mesquite Mine Expansion Project, To Expand the Existing Open-Pit, Heap-Leach, and Precious Metal Mine, Federal Mine Plan of Operations Approval, Conditional Use Permits and Reclamation Plan Approval, Imperial County, CA, Due: October 27, 2000, Contact: Kevin Marty (909) 697-5200.

EIS No. 000302, FINAL EIS, BLM, NM, Farmington Field Office Riparian and Aquatic Habitat Management, To Restore and Protect, Farmington Riparian and Aquatic Habitat Management Plan, San Juan, McKinley, Rio Arriba and Sandoval Counties, NM, Due: October 10, 2000, Contact: Robert Moore (505) 599-6311.

EIS No. 000303, FINAL EIS, BLM, NM, Las Cruces Field Office Riparian and Aquatic Habitat Management, To Restore and Protect, Mimbres Resource Management Plan, Dona Ana, Luna, Grant and Hidalgo Counties, NM, Due: October 10, 2000, Contact: Bill Merhege (505) 525-4369.

EIS No. 000304, FINAL EIS, BLM, NM, Albuquerque Field Office Riparian and Aquatic Habitats Management, To Restore and Protect, Rio Puerco Resource Management Plan Amendment (RMPA), Cibola, Sandoval, McKinley, Rio Arriba, Bernalillo, Valencia and Santa Fe Counties, NM, Due: October 10, 2000, Contact: Jim Silva (505) 761-8901.

EIS No. 000305, FINAL EIS, BLM, NM, Taos Field Office Riparian and Aquatic Habitat Management, To Restore and Protect, Colfax, Harding, Los Alamos, Mora, Rio Arriba, San Miquel, Santa Fe, Taos and Unison Counties, NM, Due: October 10, 2000, Contact: Pam Herrera (505) 751-4705.

EIS No. 000306, DRAFT EIS, FHW, SC, Dave Lyle Boulevard Extension, New Location from the S.C. Route 161/Dave Lyle Boulevard Intersection in York County To S.C. Route 75, in the vicinity of the U.S. Route 521/S.C., York County Metropolitan Road Corridor Project, Funding, York and Lancaster Counties, SC, Due: October 23, 2000, Contact: Kenneth R. Myers, P.E. (803) 253-3881.

EIS No. 000307, DRAFT EIS, FRC, AL, FL, Buccaneer Natural Gas Pipeline Project, Construction and Operations, To Deliver Natural Gas for Electric Power Generation, Mobile County, AL and Pasco, Polk, Hardee, Lake and Osceola Counties, FL, Due: October 24, 2000, Contact: Paul McKee (202) 208-1611.

EIS No. 000308, DRAFT EIS, FRC, AL, FL, MS, Gulfstream Natural Gas System Project, Construction and Operation, To Provide Natural Gas Transportation Service, AL, MS and FL, Due: October 23, 2000, Contact: Paul McKee (202) 208-1611.

EIS No. 000309, REVISED DRAFT EIS, NPS, CA, Mojave National Preserve General Management Plan, Revised and New Alternatives the Proposed Management Approach and Two Alternatives for the Management of the 1.6 Million-Acre, Implementation, San Bernardio County, CA, Due: December 08, 2000, Contact: Alan Schmierer (415) 427-1441.

EIS No. 000310, DRAFT SUPPLEMENT, NPS, CA, NV, CA, NV, Death Valley National Park General Management Plan, Proposed Management Approach and Two Alternatives for the Management of the 3.3 Million Acres, Implementation, Mojave Desert, Inyo and San Bernardino Counties, CA and Nye and Esmeralda Counties, NV, Due: December 08, 2000, Contact: Alan Schmierer (415) 427-1441.

EIS No. 000311, DRAFT EIS, FTA, HI, Oahu Primary Corridor Transportation Project, Improvements from Kapolei in the west to the University of Hawaii-Manoa and Waikiki in the east, Major Investment Study, In the City and County of Honolulu, HI, Due: November 06, 2000, Contact: Donna Turchie (415) 744-3115.

EIS No. 000312, DRAFT EIS, COE, NB, Western Sarpy/Clear Creek Flood Reduction Study Including Environmental Restoration Component, Lower Platte River and Tributaries, Saunders and Sarpy Counties, NB, Due: October 23, 2000, Contact: Nelson S. Carpenter (402) 221-4450.

EIS No. 000313, FINAL EIS, AFS, UT, Trout Slope East Timber Project, Timber Harvest and Associated Activities, Implementation, Vernal Ranger District, Ashley National Forest, Uintah County, UT, Due: October 10, 2000, Contact: Laura Jo West (435) 781-5167.

EIS No. 000314, FINAL SUPPLEMENT, UAF, TX, Programmatic EIS—Kelly Air Force Base (AFB) Disposal and Reuse, New and Updated Information, Joint Military and Civil Use of the Runway and other Airfield Facilities, Joint Use Agreement, Bexar County, San Antonio, TX, Due: October 10, 2000, Contact: Jonathan D. Farthing (210) 536-3787.

Amended Notices

EIS No. 000259, DRAFT EIS, SFW, CA, Bolsa Chica Lowlands Restoration Project, Creation of Wetland Habitat Areas, Approval and Issuance of USCOE Section 404 and USCGD Bridge Permits, Orange County, CA, Due: October 16, 2000, Contact: Jack Fancher (760) 431-9440. USFWS and USCOE are Joint Lead Agencies for the above EIS. Published FR-07-28-00 Review Period Reopened, so that Errata : Section 5, 6, and 7 can be reviewed. From 09-11-2000 to 10-16-2000.

EIS No. 000294, FINAL SUPPLEMENT, COE, MO, St. Johns Bayou and New Madrid Floodway Project, Channel Enlargement and Improvement, Flood Control, National Economic Development (NED) New Madrid, Mississippi and Scott Counties, MO, Due: October 10, 2000, Contact: John Rumancik (901) 544-3975. Revision of FR notice published on 09/01/2000: CEQ Comment Date corrected from 10/02/2000 to 10/10/2000. Also distribution was not completed until the week of 09/01/2000.

Dated: September 5, 2000.
Joseph C. Montgomery,
Director, NEPA Compliance Division, Office of Federal Activities.

[FR Doc. 00-23153 Filed 9-7-00; 8:45 am]

BILLING CODE 6560-50-U